DEPARTMENT OF DEFENSE

Office of the Secretary

Meeting of the DoD Healthcare Quality Initiative Review Panel

AGENCY: Department of Defense.

ACTION: An executive/administration meeting for DoD Healthcare Quality Initiatives Review Panel has been scheduled for September 14 & 15, 2000.

SUMMARY: This notice set forth the meeting of the DoD Healthcare Quality Initiatives Review Panel. Notice of meeting is required under The Federal Advisory Committee Act.

DATES: September 14 & 15, 2000.

ADDRESSES: Hilton Crystal City, 2399 Jefferson Davis Hwy, Arlington, VA 22202.

Time: September 14th, 5 pm to 8 pm; September 15th, 8 am to 5:30 pm.

FOR FURTHER INFORMATION: Contact Gia Edmonds at (703) 933-8325.

Dated: August 30, 2000.
L.M. Bynum,
Alternate OSD Federal Register Liaison Officer, Department of Defense.

[FR Doc. 00-22696 Filed 9-5-00; 8:45 am]

BILLING CODE 5001-10-M